DEPARTMENT OF TRANSPORTATION

Federal Aviation Administration

14 CFR Part 39

[Docket No. FAA-2006-24199; Directorate Identifier 2006-NM-025-AD; Amendment 39-14744; AD 2006-18-06]

RIN 2120-AA64

Airworthiness Directives; Airbus Model A318, A319, A320, and A321 Airplanes

AGENCY: Federal Aviation Administration (FAA), Department of Transportation (DOT).

ACTION: Final rule.

SUMMARY: The FAA is adopting a new airworthiness directive (AD) for certain Airbus Model A318, A319, A320, and A321 airplanes. This AD requires revising the Limitations section of the airplane flight manual (AFM); performing a one-time hardness test of certain ribs of the left- and right-hand engine pylons, as applicable, which would terminate the AFM limitations; and performing related corrective actions if necessary. This AD results from a report that certain stainless steel ribs installed in the engine pylon may not have been heat-treated during manufacture, which could result in significantly reduced structural integrity of the pylon. We are issuing this AD to detect and correct reduced structural integrity of the engine pylon, which could lead to separation of the engine from the airplane.

DATES: This AD becomes effective October 11, 2006.

The Director of the Federal Register approved the incorporation by reference of a certain publication listed in the AD as of October 11, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A318, A319, A320, and A321 airplanes. That NPRM was published in the Federal Register on March 27, 2006 (71 FR 15065). That NPRM proposed to require revising the Limitations section of the airplane flight manual (AFM); performing a one-time hardness test of certain ribs of the left- and right-hand engine pylons, as applicable, which would terminate the AFM limitations; and performing related corrective actions if necessary.

Comments

We provided the public the opportunity to participate in the development of this AD. We have considered the comment received.

Request To Revise Hardness Test Requirement

The Air Transport Association (ATA), on behalf of its member, Northwest Airlines (NWA), requests that we review the requirement for the hardness test specified in the NPRM. NWA states that the NPRM proposes a hardness test before further flight in the case of a hard or overweight landing and further states that French airworthiness directive F-2006-011 R1, dated January 18, 2006, which also addresses the subject of this AD, did not have such a requirement. NWA asserts that a requirement to visually inspect the airplane and pylons for deformation after a hard landing already exists. NWA believes that, as a hardness test requires special tooling and expertise that would not likely be available at most locations where a hard landing might occur, the hardness test is not appropriate and a visual inspection in accordance with maintenance procedures should be accomplished instead.

We agree with NWA that a hardness test after a hard or overweight landing is not necessary. Therefore, we have revised paragraph (g) of the AD to remove the requirement for a hardness test after a hard or overweight landing.

Clarification of Corrective Actions

To prevent possible confusion, we have revised paragraph (h) of the AD to clarify that the specified corrective actions apply to discrepant ribs discovered during the hardness test required by paragraph (g) of the AD.

Supersedure of French Airworthiness Directive

The European Aviation Safety Agency (EASA) has issued airworthiness directive 2006-0136, dated May 22, 2006. The EASA airworthiness directive supersedes French airworthiness directive F-2006-011 R1, dated January 18, 2006, which was referenced in the NPRM as the applicable parallel airworthiness directive. The EASA airworthiness directive contains no new or revised material that affects the technical content of this AD; however, we have revised paragraph (k) of this AD for clarity and traceability of information that applies to this AD.

Conclusion

We have carefully reviewed the available data, including the comment received, and determined that air safety and the public interest require adopting the AD with the changes described previously. We have determined that these changes will neither increase the economic burden on any operator nor increase the scope of the AD.

Costs of Compliance

This AD will affect about 112 airplanes of U.S. registry. The required hardness test will take about 1 work hour per airplane, at an average labor rate of $65 per work hour. Based on these figures, the estimated cost of the AD for U.S. operators is $7,280, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-18-06 Airbus: Amendment 39-14744. Docket No. FAA-2006-24199; Directorate Identifier 2006-NM-025-AD.

Effective Date

(a) This AD becomes effective October 11, 2006.

Affected ADs

(b) None.

Applicability

(c) This AD applies to Airbus Model A318, A319, A320, and A321 airplanes, certificated in any category; having a manufacturer serial number as identified in Airbus All Operators Telex (AOT) A320-54A1015, dated December 14, 2005 (referred to after this paragraph as “the AOT”).

Unsafe Condition

(d) This AD results from a report that certain stainless steel ribs installed in the engine pylon may not have been heat-treated during manufacture, which could result in significantly reduced structural integrity of the pylon. We are issuing this AD to detect and correct reduced structural integrity of the engine pylon, which could lead to separation of the engine from the airplane.

Compliance

(e) You are responsible for having the actions required by this AD performed within the compliance times specified, unless the actions have already been done.

Revise Limitations

(f) Within 10 days after the effective date of this AD, revise the Limitations section of the Airbus A318/319/320/321 Airplane Flight Manual (AFM) to include the following statement. This may be done by inserting a copy of this AD into the AFM.

“In case of flight in severe turbulence, strictly adhere to reduced speeds as defined in Aircraft Flight Manual 4.03.00 P 03.”

Note 1: When a statement identical to that specified in paragraph (f) of this AD has been included in the general revisions of the AFM, and the general revisions have been inserted into the AFM, the copy of this AD may be removed from the Limitations section of the AFM unless it has already been removed as specified in paragraph (g) or (h) of this AD.

Hardness Test

(g) Within the compliance time specified in paragraph (g)(1) or (g)(2) of this AD, as applicable: Perform a one-time hardness test to determine the hardness of ribs 8 and 9 of the left- and right-hand engine pylons, in accordance with the instructions of the AOT. If no discrepant rib is found installed on the airplane, the statement specified in paragraph (f) of this AD may be removed from the Limitations section of the AFM.

(1) For airplanes equipped with CFM engines: Within 6 months after the effective date of this AD.

(2) For airplanes equipped with IAE engines: Within 9 months after the effective date of this AD.

Note 2: The AOT refers to Airbus Repair Instruction 546 12081, Issue B, dated January 3, 2006, as an additional source of service information for accomplishing the actions specified by the AOT.

Corrective Actions

(h) For any discrepant rib found during the hardness test specified by paragraph (g) of this AD: Within the compliance time specified in paragraph (h)(1) or (h)(2) of this AD, as applicable, perform applicable corrective actions in accordance with the instructions of the AOT. When corrective actions have been applied to all discrepant ribs found on the airplane, the statement specified in paragraph (f) of this AD may be removed from the Limitations section of the AFM for that airplane.

(1) For airplanes equipped with CFM engines: Within 14 days after accomplishing the hardness test required by paragraph (g) of this AD.

(2) For airplanes equipped with IAE engines: Within 28 days after accomplishing the hardness test required by paragraph (g) of this AD.

No Reporting Requirement

(i) Although the AOT referenced in this AD specifies to submit certain information to the manufacturer, this AD does not include that requirement.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) European Aviation Safety Agency airworthiness directive 2006-0136, dated May 22, 2006, also addresses the subject of this AD.

Material Incorporated by Reference

(l) You must use Airbus All Operators Telex A320-54A1015, dated December 14, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 23, 2006.
Kalene C. Yanamura,
Acting Manager, Transport Airplane Directorate, Aircraft Certification Service.

[FR Doc. E6-14623 Filed 9-5-06; 8:45 am]

BILLING CODE 4910-13-P